SURFACE TRANSPORTATION BOARD

[Docket No. FD 36751; Docket No. FD 36752]

James K. Perry and W. Stinson Dean—Continuance in Control Exemption—Pioneer Rail and Transload of Hawthorne, Fla. and Pioneer Rail and Transload of El Reno, Okla.

James K. Perry and W. Stinson Dean (Pioneer Owners), noncarriers, have filed verified notices of exemption under 49 CFR 1180.2(d)(2) to continue in control (by majority ownership) of Pioneer Rail and Transload of Hawthorne, Fla. (PRTF), and Pioneer Rail and Transload of El Reno, Okla. (PRTO), through their ownership of Pioneer Storage Company of Florida, LLC (PSCF), and Pioneer Storage Company LLC (PSCO) respectively, both noncarriers, when PRTF and PRTO become common carriers.¹

¹ These proceedings are not consolidated. A single decision is being issued for administrative convenience.

These transactions are related to two concurrently filed verified notices of exemption in Pioneer Rail & Transport of Hawthorne, Fla., a Division of Pioneer Storage Company of Florida, LLC—Operation Exemption—Line in Hawthorne, Fla., FD 36748, and Pioneer Rail & Transport of El Reno, Okla., a Division of Pioneer Storage Company, LLC—Operation Exemption—Line in El Reno, Okla., FD 36749. In those proceedings, PRTF seeks to operate over 5,569 feet of existing railroad track in Hawthorne, Fla., and PRTO seeks to operate over 8,530 feet of existing railroad track in El Reno, Okla. According to the verified notice, the Pioneer Owners currently have indirect control of PRTO through their ownership of PSCO and currently have indirect control of PRTF through their ownership of PSCF.

The notices indicate that (1) the lines PRTF and PRTO will operate do not connect with one another and there are no other railroads in the Pioneer Owners' corporate family; (2) the continuance in control of PRTF and PRTF is not part of a series of anticipated transactions that would connect the lines with any other carriers in the Pioneer Owners' corporate family; and (3) the proposed transactions do not involve a Class I rail carrier. Therefore, this transaction is exempt from the prior approval requirements of 49 U.S.C. 11323. See 49 CFR 1180.2(d)(2).

Under 49 U.S.C. 10502(g), the Board may not use its exemption authority to relieve a rail carrier of its statutory obligation to protect the interests of its employees. However, 49 U.S.C. 11326(c) does not provide for labor protection for transactions under 49 U.S.C. 11324 and 11325 that involve only Class III rail carriers. Accordingly, the Board may not impose labor protective conditions here because all of the carriers involved are Class III rail carriers.

The earliest these transactions may be consummated is January 27, 2024, the effective date of the exemptions (30 days after the verified notices were filed). If the verified notices contain false or misleading information, the exemptions are void ab initio. Petitions to revoke the exemptions under 49 U.S.C. 10502(d) may be filed at any time. The filing of a petition to revoke will not automatically stay the effectiveness of the exemptions. Petitions to stay must be filed no later than January 19, 2024.

All pleadings, referring to Docket No. FD 36751 and/or Docket No. FD 36752, must be filed with the Surface Transportation Board either via e-filing on the Board's website or in writing addressed to 395 E Street SW, Washington, DC 20423-0001. In addition, a copy of each pleading must be served on Pioneer Owners' counsel, Renner Jantz, Pioneer Rail & Transload of El Reno, OK, a Division of Pioneer Storage Company, LLC, 1200 N Grand Ave., El Reno, OK 73036.

According to the Pioneer Owners, this action is excluded from environmental review under 49 CFR 1105.6(c) and from historic preservation reporting requirements under 49 CFR 1105.8(b)(1).

Board decisions and notices are available at www.stb.gov.

Decided: January 9, 2024.
By the Board, Mai T. Dinh, Director, Office of Proceedings.
Tammy Lowery,
Clearance Clerk.

[FR Doc. 2024-00574 Filed 1-11-24; 8:45 am]

BILLING CODE 4915-01-P